NUCLEAR REGULATORY COMMISSION

[Docket Nos. 52-029 and 52-030; NRC-2008-0558]

Progress Energy Florida; Final Environmental Impact Statement for Combined Licenses for Levy Nuclear Plant Units 1 and 2

Notice is hereby given that the U.S. Nuclear Regulatory Commission (NRC or the Commission) and the U.S. Army Corps of Engineers, Jacksonville District, as a cooperating agency, have published a final environmental impact statement (EIS), NUREG-1941, “Environmental Impact Statement for Combined Licenses (COLs) for Levy Nuclear Plant Units 1 and 2.” The site comprises of approximately 3,105 acres in Levy County, Florida.

On August 13, 2010 (75 FR 49539), the NRC published a notice of availability for the draft EIS. The purpose of this notice is to inform the public that the final EIS is available for public inspection in the NRC's Public Document Room (PDR) located at One White Flint North, 11555 Rockville Pike, Rockville, Maryland, 20852 or from NRC's Agencywide Documents Access and Management System (ADAMS). ADAMS is accessible from the NRC's Web site at www.nrc.gov/reading-rm/adams.html. The ADAMS accession numbers for the final EIS are ML12100A063, ML12100A068, and ML12100A070. Persons who do not have access to ADAMS or who encounter problems in accessing the documents located in ADAMS should contact the PDR reference staff by telephone at 1-800-397-4209 and 1-301-415-4737 or by sending an email to pdr.resource@nrc.gov. The final EIS may also be viewed online at: http://www.nrc.gov/reactors/new-reactors/col/levy.html. In addition, the following four public libraries have agreed to make the final EIS available to the public: the Citrus County Coastal Region Library, located at 8619 West Crystal Street, Crystal River, Florida; the Dunnellon Branch Library, located at 20351 Robinson Road, Dunnellon, Florida; the AF Knotts Public Library, located at 11 56th Street, Yankeetown, Florida; and the Bronson Public Library, located at 600 Gilbert Street, Bronson.

FOR FURTHER INFORMATION CONTACT: Mr. Douglas Bruner, Environmental Projects Branch 1, U.S. Nuclear Regulatory Commission, Mail Stop T6C20M, Washington, DC, 20555-0001. Mr. Bruner may be contacted by telephone at 301-415-2730 or via email at Douglas.Bruner@nrc.gov.

Dated at Rockville, Maryland, this 26th day of April, 2012.
For The Nuclear Regulatory Commission.
David B. Matthews,
Director, Division of New Reactor Licensing, Office of New Reactors.

[FR Doc. 2012-10695 Filed 5-2-12; 8:45 am]

BILLING CODE 7590-01-P